DEPARTMENT OF AGRICULTURE

Forest Service

36 CFR Part 219

RIN 0596-AB86

National Forest Service Land and Resource Management Planning

AGENCY: Forest Service, USDA.

ACTION: Notice; extension of public comment period.

SUMMARY: Notice is hereby given that the public comment period for the proposed rule for National Forest System Land and Resource Management Planning, published in the Federal Register on December 6, 2002 (67 FR 72770), is being extended. The original comment period end date was March 6, 2003.

DATES: Comments on the proposed rule must be received in writing, on or before the new deadline of April 7, 2003.

ADDRESSES: Comments may be sent to USDA FS Planning Rule, Content Analysis Team, PO Box 8359, Missoula, MT 59807; via email to planning_rule@fs.fed.us; or by facsimile to Planning Rule Comments at (406) 329-3556. All comments, including names and addresses when provided, are placed in the record and are available for public inspection and copying.

FOR FURTHER INFORMATION CONTACT: Jody Sutton, Content Analysis Team Program Coordinator, Forest Service, (801) 517-1023.

SUPPLEMENTARY INFORMATION: The Diversity Options Workshop was held February 18-20, 2003, to discuss the approaches to implementing the National Forest Management Act (NFMA) diversity requirement in the proposed rule; address strengths and weaknesses of the two diversity options in the proposed rule; and to discuss any additional options for implementing the NFMA diversity requirement. Proceedings from the Diversity Options Workshop are expected to be posted on World Wide Web at www.fs.fed.us/emc/nfma by March 17, 2003.

Dated: February 26, 2003.
Bov B. Eav,
Acting Chief.

[FR Doc. 03-5116 Filed 3-4-03; 8:45 am]

BILLING CODE 3410-11-P